ENVIRONMENTAL PROTECTION AGENCY

40 CFR Part 51

[EPA-HQ-OAR-2023-0262; FRL-12160-02-OAR]

RIN 2060-AW41

Extension of the State Implementation Plan Due Date for the Regional Haze Third Implementation Period

AGENCY: Environmental Protection Agency (EPA).

ACTION: Final rule.

SUMMARY: The Environmental Protection Agency (EPA) is finalizing revisions to the Regional Haze Rule (RHR) under the Clean Air Act (CAA) to change the due date for the next round of State Implementation Plans (SIPs) for the third implementation period from July 31, 2028, to July 31, 2031. Under the RHR, States must submit plans to protect visibility in mandatory Class I Federal areas to make reasonable progress towards the national goal of preventing any future, and remedying any existing, impairment of visibility in Class I areas.

DATES: This final rule is effective on March 9, 2026.

ADDRESSES: The EPA has established a docket for this action under Docket ID No. EPA-HQ-OAR-2023-0262. All documents in the docket are listed on the https://www.regulations.gov website. Although listed in the index, some information is not publicly available, e.g., confidential business information (CBI) or other information whose disclosure is restricted by statute. Certain other material, such as copyrighted material, is not placed on the internet and will be publicly available only in hard copy form. Publicly available docket materials are available electronically through https://www.regulations.gov.

FOR FURTHER INFORMATION CONTACT: For information about this final rule, contact Ms. Paige Wantlin, Air Quality Policy Division, Office of Air Quality Planning and Standards (Mail Code C539-01), Environmental Protection Agency, 109 TW Alexander Drive, Research Triangle Park, NC 27711; telephone number: (919) 541-5670; email address: wantlin.paige@epa.gov.

SUPPLEMENTARY INFORMATION:

Preamble acronyms and abbreviations. Throughout this preamble the use of “we,” “us,” or “our” is intended to refer to the EPA. We use multiple acronyms and terms in this preamble. While this list may not be exhaustive, to ease the reading of this preamble and for reference purposes, the EPA defines the following terms and acronyms here:

ANPRM Advance notice of proposed rulemaking

CAA Clean Air Act

Class I areas Class I Federal areas

CRA Congressional Review Act

EPA Environmental Protection Agency

FLMs Federal land manager

NOX Nitrogen oxide

OMB Office of Management and Budget

PM Particulate matter

PM2.5 Particulate matter equal to or less than 2.5 microns in diameter (fine particulate matter)

PM10 Particulate matter equal to or less than 10 microns in diameter

PRA Paperwork Reduction Act

RHR Regional Haze Rule

RFA Regulatory Flexibility Act

SIP State implementation plan

SO2 Sulfur dioxide

UMRA Unfunded Mandates Reform Act

VOCs Volatile organic compounds

Table of Contents

I. General Information

Does this action apply to me?

II. Executive Summary

A. What action is the Agency taking?

B. What is the Agency's authority for taking this action?

III. What is the background for the EPA's final action?

A. Regional Haze

B. Requirements for Regional Haze SIPs for the Second Planning Period

C. 2025 Advance Notice of Proposed Rulemaking

IV. Extension of the SIP Due Date—Final Rule Revisions

A. Summary of Proposal

B. Comments and Responses Regarding the Extension of Next Regional Haze SIP Deadline From 2028 to 2031

C. Comments and Responses Regarding the Third Planning Period Progress Report Deadline

D. Final Rule

V. Supporting Information

VI. Statutory and Executive Order Reviews

A. Executive Order 12866: Regulatory Planning and Review

B. Executive Order 14192: Unleashing Prosperity Through Deregulation

C. Paperwork Reduction Act (PRA)

D. Regulatory Flexibility Act (RFA)

E. Unfunded Mandates Reform Act (UMRA)

F. Executive Order 12132: Federalism

G. Executive Order 13175: Consultation and Coordination With Indian Tribal Governments

H. Executive Order 13045: Protection of Children From Environmental Health & Safety Risks

I. Executive Order 13211: Actions That Significantly Affect Energy Supply, Distribution, or Use

J. National Technology Transfer and Advancement Act

K. Congressional Review Act (CRA)

I. General Information

Does this action apply to me?

Entities potentially affected directly by this final rule include State, local, and Tribal governments, as well as Federal Land Managers (FLMs) responsible for protection of visibility in mandatory Class I areas. Entities potentially affected indirectly by this final rule include owners and operators of sources that emit particulate matter (PM) equal to or less than 10 microns in diameter (PM10), PM equal to or less than 2.5 microns in diameter (PM2.5 or fine PM), sulfur dioxide (SO2), oxides of nitrogen (NOX), volatile organic compounds (VOCs), and other pollutants that may cause or contribute to visibility impairment. Others potentially affected indirectly by this final rule include members of the general public who live, work, or recreate nearby or in mandatory Class I areas affected by visibility impairment. Because emissions sources that contribute to visibility impairment in Class I areas also may contribute to air pollution in other areas, members of the general public may also be affected by this final rule.

II. Executive Summary

A. What action is the Agency taking?

This regulatory action finalizes a revision to the due date for the next required regional haze SIP revision from the current due date of July 31, 2028, to a revised due date of July 31, 2031. The revised SIP due date applies to periodic comprehensive SIPs developed for the third regional haze planning period. The change, as finalized, has no effect on prior due dates for prior planning periods under the existing RHR. Additionally, regardless of the SIP due date extension to 2031, the third planning period continues to run from 2028 to 2038. Other than the finalized change to the next due date for periodic comprehensive SIP revisions (i.e., those that will now be due in 2031), the EPA is not finalizing any other changes for due dates for future periodic comprehensive SIP revisions (i.e., for those that will still be due in 2038) or future progress reports (i.e., those that will still be due in 2033) at this time.

B. What is the Agency's authority for taking this action?

The statutory authority for this action is provided by 42 U.S.C. 7407, 7410 and 7491(A)(b).

III. What is the background for the EPA's final action?

A. Regional Haze

Regional haze is visibility impairment that is produced by a multitude of sources and activities that are located across a broad geographic area and directly emit PM10, PM2.5 (e.g., sulfates, nitrates, organic carbon, elemental carbon, and soil dust), and/or their precursors (e.g., SO2, NOX, and, in some cases, ammonia and VOCs). Fine particle precursors react in the atmosphere to form PM2.5, which impairs visibility by scattering and absorbing light. This light scattering and absorbing reduces the clarity, color, and visible distance that one can see.

B. Requirements for Regional Haze SIPs for the Second Planning Period

Pursuant to a CAA directive to issue regulations, the EPA first promulgated a rule to address regional haze in 1999 (the “1999 RHR”), which established the regulatory requirements for the first planning period SIPs.¹ In 2017, the EPA revised the RHR (the “2017 RHR”) to address requirements for the second planning period.² The requirements for the 2017 RHR are codified at 40 CFR 51.308(f), (g), (h), and (i). Among other changes, the 2017 RHR adjusted the due date for States to submit their second planning period SIPs.

¹ See 64 FR 35714 (July 1, 1999).

² See 82 FR 3078 (Jan. 10, 2017).

Currently, 40 CFR 51.308(f) requires submission of periodic comprehensive revisions of SIPs addressing regional haze visibility impairment by no later than July 31, 2021, July 31, 2028, and every 10 years thereafter. All 50 States, the District of Columbia, and the U.S. Virgin Islands are required to submit SIPs satisfying the applicable requirements of the 2017 RHR. For additional background on the EPA's regional haze program (the “Program”) and the 2017 RHR revisions, please refer to Section III: Overview of Visibility Protection Statutory Authority, Regulation, and Implementation of “Protection of Visibility: Amendments to Requirements for State Plans” of the 2017 RHR.³

³ See 82 FR 3081-3087 (Jan. 10, 2017).

C. 2025 Advance Notice of Proposed Rulemaking

On March 12, 2025, the EPA announced that the Agency was reconsidering implementation of the Program.⁴ Consistent with this announcement, on October 2, 2025, the EPA published an advance notice of proposed rulemaking (ANPRM) to request feedback on a restructuring of the Program to inform how the EPA might revise the Agency's current regulations at 40 CFR 51.308(f), (g), (h), and (i).⁵ The ANPRM focused on three key topic areas that served to outline how the EPA might restructure the Program: (1) development/use of a reasonable progress metric and consideration of the four statutory reasonable progress factors in CAA section 169A(g)(1), (2) development of SIP obligation criteria (i.e., criteria used to determine when a SIP revision is required), and (3) determining SIP requirements for States that are required to submit a SIP revision.

⁴ See https://www.epa.gov/newsreleases/administrator-zeldin-begins-restructuring-regional-haze-program.

⁵ See 90 FR 47677 (Oct. 2, 2025).

The ANPRM constitutes the first step in the EPA's process to revise the Agency's current regulations governing the Program. The public comments received on this ANPRM will inform the EPA's regulations governing the third and subsequent planning periods. However, the EPA has not yet proposed specific changes to the Program.

IV. Extension of the SIP Due Date—Final Rule Revisions

A. Summary of Proposal

The EPA proposed to revise 40 CFR 51.308(f) to move the deadline for the submission of the next periodic comprehensive SIP revisions from July 31, 2028, to July 31, 2031.⁶ The EPA proposed to leave the end date for the third planning period at 2038, regardless of when SIP revisions are submitted. In the current RHR requirements, the end of the planning period (in this case 2038) represents both the year for which reasonable progress goals are established in the third planning SIP and the year that the next (fourth planning period) SIP revision is due. The proposed change was to be a one-time schedule adjustment such that the due dates of periodic comprehensive SIP revisions for the fourth and subsequent planning periods would continue to be due on July 31, 2038, and every 10 years thereafter. Additionally, the EPA did not propose to revise the due date for the third planning period progress reports, which remain due in 2033.

⁶ See 89 FR 104471.

The EPA proposed the third planning period SIP due date extension for several reasons enumerated in the proposal and summarized here.⁷ The EPA indicated the Agency's intent to develop a rulemaking that may substantively revise aspects of the RHR, which would impact the third planning period SIPs and possibly future planning period SIPs. The EPA intends to revise the RHR on a timeline that is not consistent with the previous third planning period SIP due date of July 31, 2028.⁸ Considering the recent publication of the ANPRM, the time it will take the EPA to review the feedback received on the ANPRM prior to issuing a proposal, and finalizing any subsequent rule revision, the EPA finds that States will not have adequate time to develop and submit a SIP by 2028. Based on the publication date of the ANPRM and the expected subsequent timing of a proposed and final rule, the EPA has determined that States will need at least three additional years beyond 2028 to submit third planning period SIP revisions. In addition, a due date extension will allow States to coordinate regional haze planning with other regulatory programs, with the expectation that this cross-program coordination will lead to better overall policies and enhanced environmental protection.⁹

⁷ Id.

⁸ Id.

⁹ The public can track the EPA's progress on rulemakings through the EPA's Regulatory Agenda, which generally includes regulatory timelines. EPA's Regulatory Agenda may be accessed through the following website: https://www.epa.gov/laws-regulations/regulatory-agendas-and-regulatory-plans.

B. Comments and Responses Regarding the Extension of Next Regional Haze SIP Deadline From 2028 to 2031

Comment 1: In light of the EPA's intent to revise the RHR for the third and subsequent planning periods, many commenters, especially from State air agencies, expressed support for a SIP due date extension to ensure States have adequate time to prepare their third planning period SIP revisions. These commenters expressed that extending the third planning period SIP deadline will provide States with adequate time to take into account anticipated RHR revisions, develop comprehensive SIP revisions, and integrate regional haze planning with other ongoing air quality regulatory programs. However, some commenters suggested that the EPA extend the third planning period SIP deadline further, citing that the extension should be counted from the date of final promulgation of the forthcoming RHR revisions because it is unreasonable for States to begin SIP work without regulatory certainty and guidance. Other commenters requested a later deadline to allow better coordination between State and local air agency co-regulators, industry, and other stakeholders to develop a RHR that streamlines the regulatory requirements informing third planning period SIP development. Several commenters also raised concerns regarding resource burden and timing constraints associated with the current regulatory format of the RHR and asked the EPA to recognize a need for proportional adjustments to future SIP revision deadlines to ensure States have adequate time for planning and stakeholder engagement. As such, these commenters also requested that the EPA consider extending the fourth planning period SIP deadline from 2038 to 2041 and that the end date of the third planning period be extended from 2038 to 2041. Subsequently, these commenters also requested that the EPA align the SIP revision deadlines for the fourth and subsequent planning periods to be due July 31, 2041, and every 10 years thereafter.

Response 1: The EPA acknowledges commenters' feedback regarding the regulatory changes that may impact third planning period SIP development as a result of the forthcoming RHR revisions. The EPA currently believes a deadline extension from July 31, 2028, to July 31, 2031, is sufficient time for the Agency to promulgate regulatory changes to the current RHR and for stakeholders to take regulatory changes into account when preparing third planning period SIP revisions. Therefore, the EPA is finalizing a third planning period SIP due date of July 31, 2031. However, as the EPA prepares to revise the RHR in the Agency's forthcoming rule revisions, the Agency intends to further evaluate the third and subsequent planning period SIP deadlines (and subsequent end dates for future planning periods) to ensure the timing of future SIP submittals and deadlines are aligned with any regulatory changes.¹⁰ Therefore, future date changes may result due to future regulatory changes.

¹⁰ See 90 FR 47677 (Oct. 2, 2025).

Comment 2: A coalition of non-governmental organizations (the “Conservation Groups”) opposed the proposed extension. The Conservation Groups contend that this extension violates the language of CAA section 169B(e)(2), claiming this section requires that States submit regional haze SIP revisions within 12 months of any new regulation promulgated under CAA section 169A.

Response 2: The EPA disagrees with this comment and emphasizes a key component of CAA section 169B(e)(2). CAA section 169B(e)(2) states that “[a]ny regulations promulgated under section [169A] of this title pursuant to this subsection shall require affected States to revise within 12 months their implementation plans under section [110] . . .” (emphasis added). The phrase “pursuant to this subsection” refers to CAA section 169B(e), specifically 169B(e)(1)'s one-time requirements for the EPA's inaugural regional haze rulemaking. CAA section 169B(e)(1) requires the EPA to promulgate regional haze regulations within 18 months of receiving the report required of Visibility Transport Commissions under 169B(d)(2), and to take into account studies required under subsection (a)(1). The studies developed under 169B(a)(1) and the Grand Canyon Visibility Transport Commission report were one-time requirements intended to inform the EPA's yet-to-be-promulgated regulations and were taken into account when finalizing the 1999 RHR. The 1999 RHR constituted the initial regional haze rulemaking under the CAA and, therefore, was appropriately promulgated according to the requirements of subsections 169B(e)(1) and (e)(2).¹¹ Thus, CAA section 169B(e)(1) explains Congressional intent to establish a timetable for the EPA's initial 1999 RHR to ensure that the regulations would be promulgated in a timely fashion and would be informed by the studies and report required under CAA sections 169B(a)(1) and (d)(2), respectively.¹² The EPA did not promulgate this SIP deadline revision under CAA section 169B(e)(1). Therefore, section 169B(e)(2)'s deadline for SIP submissions is inapplicable. As such, the EPA disagrees with the Conservation Groups' assertions that Congress intended this 12-month deadline to apply in the case of subsequent rule revisions, as subsection (e) describes a one-time process of research, reports, and rulemaking to get the Program started. The EPA does not agree that Congress intended for the specific timeline in CAA section 169(e)(2) to apply to additional, future rulemakings.

¹¹ See 64 FR 35714, 35724 (July 1, 1999).

¹² Congress later modified the deadline for first planning period SIP submittals in the Transportation Equity Act for the 21st Century by enacting revisions in CAA section 107(d)(7).

Comment 3: The Conservation Groups stated in their comment letter that the EPA's rationales do not justify the proposed extension and that the “EPA cannot continue to take unlimited bites from the same apple” in delaying a mandatory program that has a specific national goal.¹³ They also contend that States' obligations for other CAA regulatory programs should not delay regional haze SIP development, that the EPA's extension would inject additional regulatory uncertainty in the Program for both States and industry stakeholders, and that a 2028 deadline would better facilitate coordinated planning for regional haze and other air quality rules. The Conservation Groups also contend that the EPA's proposal would have States halt work on regional haze SIPs, that States would not need extra time to develop their SIPs because States will be able to carry knowledge from previous planning periods forward into third planning period SIP development, that forthcoming revisions to the RHR would not alter such knowledge, and that the EPA's examples of CAA regulatory coordination are not useful or relevant for regional haze purposes.

¹³ See comments submitted via regulations.gov under Document ID No. EPA-HQ-OAR-2023-0262-0059 for additional information.

Response 3: At the outset, the EPA observes that State agency comments to this regulatory docket directly contradict points made in the Conservation Groups' comment letter about State resources and timing for regional haze analyses. The EPA does not agree with the contention that a SIP due date extension would essentially bypass the EPA's statutory obligations to address manmade visibility impairment at the 156 Class I areas covered under the Program. Rather, the EPA is extending the third planning period SIP deadline to allow adequate time for the Agency to revise regulations and States to develop third planning period SIPs that take into account future rule revisions and consider visibility improvements to date.¹⁴ In doing so, the EPA intends to ensure continuing reasonable progress towards the national goal through compliance with current and future RHR requirements. Furthermore, the CAA statutory text requires that Class I areas make “reasonable progress” towards the national visibility goal articulated under CAA section 169A(a)(1), and there are no specific interim milestones identified.¹⁵ This is consistent with Congress' original intent in enacting the legislation creating the Program.¹⁶ Additionally, the CAA does not mandate a statutory end date of the Program to reach the national goal. As such, there is no statutory deadline that dictates when the national visibility goal must be achieved at the 156 Class I areas.

¹⁴ See Figure 7.9.5, IMPROVE Spatial and Seasonal Patterns and Temporal Variability of Haze and Its Constituents in the United States, Report VI, 2023.

¹⁵ See CAA sections 169A(a)(4) and 169A(b)(2).

¹⁶ The reconciliation report for the 1977 CAA amendments indicates that the term “maximum feasible progress” in 169A was changed to “reasonable progress” in the final version of the legislation passed by both chambers. See Legislative History of the Clean Air Act Amendments of 1977 Public Law 95-95 (1977), H.R. Rep. No. 95-564, at 535.

The EPA finds that it is impracticable to ask States, industry, and other stakeholders to begin work on regional haze SIPs given the uncertainty regarding the future regulatory requirements governing the Program in the third planning period. The EPA finds that States need an extension to the SIP due date to coordinate SIP planning with forthcoming regulatory changes. This extension also provides the EPA with adequate time to review and promulgate regulatory changes needed for implementation of the third planning period. As such, this extension is not delaying the implementation of a statutory program. Rather, this extension allows the EPA to promulgate regulations consistent with the goals of the Program as established by Congress, while considering the visibility improvement over the course of the first and second planning periods.

Comment 4: The Conservation Groups also commented that this extension runs afoul of the CAA's purpose of protecting public health and that the Program provides co-health benefits to the public.

Response 4: The EPA disagrees that this extension runs afoul of CAA sections 169A and 169B's intended purpose to achieve Congress' national goal of “the prevention of any future, and the remedying of any existing, impairment of visibility in mandatory class I Federal areas which impairment results from manmade air pollution.” Congress did not establish a specific role for health considerations under the Program.

Comment 5: The Conservation Groups conclude their comments by stating that extending the third planning period SIP deadline from 2028 to 2031 thwarts Congress' mandate towards remedying anthropogenic visibility impairment and that Congress was previously disappointed in the implementation of the first iterations of the Program. The Conservation Groups also recognize States' failures to submit SIPs by their regulatory deadlines across the first and second planning periods and assume there will be a subsequent delay in submitting third planning period SIPs if the EPA finalizes an extension from 2028 to 2031. The Conservation Groups also assert that this extension would effectively stay States' and the EPA's obligation to ensure reasonable progress towards the national goal under CAA section 169A(a)(1).

Response 5: The EPA disagrees with these comments. The EPA disagrees that providing States three additional years to coordinate regional haze SIP planning, recognizing that the Agency has initiated efforts to review and revise current regional haze regulations, is inconsistent with continuing to make reasonable progress towards the national visibility goal articulated by Congress in CAA section 169A(a)(1). All 156 Class I areas have made significant visibility improvements over the course of the first and second planning periods. Furthermore, the Conservation Groups did not provide any supporting documentation indicating that Class I areas were not on track to meet the national visibility goal. The EPA also disagrees that this extension effectively “stays” States' and the EPA's regional haze obligations. The SIP due date extension from 2028 to 2031 does not relieve States or the EPA from regional haze obligations under CAA sections 169A and 169B. Under the CAA, the EPA has an obligation to promulgate regulations addressing manmade visibility impairment at Class I areas to achieve the national goal stated under CAA section 169A(a)(1). Additionally, all States that contribute to manmade visibility impairment at those Class I areas have an obligation to develop SIPs addressing contributions to visibility impairment under CAA section 169A(b)(2).

The EPA recognizes this fact and is seeking to revise the regulations under 40 CFR 51.308 that will implement the requirements of the third planning period.¹⁷

¹⁷ See 90 FR 47677 (Oct. 2, 2025).

C. Comments and Responses Regarding the Third Planning Period Progress Report Deadline

Comment 6: Some commenters, particularly State air agencies, requested that the EPA also extend the deadline for the third planning period progress reports from the current regulatory deadline under 40 CFR 51.308(g) of July 31, 2033, to July 31, 2036.¹⁸ Commenters expressed that extending the third planning period progress report deadline by at least five years from the revised third planning period SIP revision deadline ensures the progress report would continue to serve as a mid-course review of a State's third planning period SIP revision, and that not extending the deadline defeats the progress report's utility under the current RHR. Commenters also cited that maintaining a 2033 deadline does not allow States to meaningfully evaluate visibility conditions and other emissions data available by 2033 to evaluate the adequacy of the third planning period SIP revision. Other commenters suggested eliminating the progress report requirement for the third and subsequent planning periods entirely.

¹⁸ See 40 CFR 51.308(g).

Response 6: The EPA acknowledges the comments submitted on this topic. These comments are outside the scope of the proposal since no changes were proposed to the progress report timeline or elements. However, this will be considered as part of the development of the upcoming new rulemaking.

D. Final Rule

The EPA is finalizing this one-time deadline extension with no changes from proposal.

V. Supporting Information

This action is not subject to the EPA's Children's Health Policy (https://www.epa.gov/children/childrens-health-policy-and-plan) because the EPA does not believe the action has considerations for human health.

VI. Statutory and Executive Orders Reviews

Additional information about these statutes and Executive Orders can be found at https://www.epa.gov/laws-regulations/laws-and-executive-orders.

A. Executive Order 12866: Regulatory Planning and Review

This action is not a significant regulatory action as defined in Executive Order 12866, as amended by Executive Order 14094, and was therefore not subject to a requirement for Executive Order 12866 review.

B. Executive Order 14192: Unleashing Prosperity Through Deregulation

This action is considered an Executive Order 14192 deregulatory action. This final rule provides burden reduction by extending the timeline for meeting requirements.

C. Paperwork Reduction Act (PRA)

This action does not impose an information collection burden under the PRA. OMB has previously approved the information collection activities contained in the existing regulations and has assigned OMB control number 2060-0704. This action simply extends the SIP due date. The burden associated with developing and submitting SIPs is covered in the existing information collection request. This action does not impose an information collection burden because it does not create an obligation for Regional offices, States, or sources to submit new information to the EPA.

D. Regulatory Flexibility Act (RFA)

I certify that this action will not have a significant economic impact on a substantial number of small entities under the RFA. This action will not impose any requirements on small entities. Small entities are not subject to the requirements of this rule.

E. Unfunded Mandates Reform Act (UMRA)

This action does not contain an unfunded mandate as described in UMRA, 2 U.S.C. 1531-1538, and does not significantly or uniquely affect small governments. The action imposes no enforceable duty on any State, local, or Tribal governments or the private sector.

F. Executive Order 12132: Federalism

This action does not have federalism implications. It will not have substantial direct effects on the States, on the relationship between the national government and the States, or on the distribution of power and responsibilities among the various levels of government.

G. Executive Order 13175: Consultation and Coordination With Indian Tribal Governments

This action does not have Tribal implications as specified in Executive Order 13175. It does not have a substantial direct effect on one or more Indian Tribes. Furthermore, these regulation revisions do not affect the relationship or distribution of power and responsibilities between the Federal government and Indian Tribes. The CAA and the Tribal Authority Rule establish the relationship of the Federal government and Tribes in characterizing air quality and developing plans to protect visibility in Class I areas. Thus, Executive Order 13175 does not apply to this action.

H. Executive Order 13045: Protection of Children From Environmental Health & Safety Risks

The EPA interprets Executive Order 13045 as applying only to those regulatory actions that concern environmental health or safety risks that the Agency has reason to believe may disproportionately affect children, per the definition of “covered regulatory action” in section 2-202 of the Executive Order. Therefore, this action is not subject to Executive Order 13045 because it does not concern an environmental health risk or safety risk. Since this action does not concern human health, the EPA's Policy on Children's Health also does not apply.

I. Executive Order 13211: Actions That Significantly Affect Energy Supply, Distribution, or Use

This action is not subject to Executive Order 13211 because it is not a significant regulatory action under Executive Order 12866.

J. National Technology Transfer and Advancement Act

This rulemaking does not involve technical standards.

K. Congressional Review Act (CRA)

This action is subject to the CRA, and the EPA will submit a rule report to each House of the Congress and to the Comptroller General of the United States. This action is not a “major rule” as defined by 5 U.S.C. 804(2).

List of Subjects in 40 CFR Part 51

Environmental protection, Administrative practice and procedure, Air pollution control, Nitrogen dioxide, Particulate matter, Sulfur oxides, Transportation, Volatile organic compounds.

Lee Zeldin,
Administrator.

For the reasons set forth in the preamble, the EPA amends title 40, chapter I of the Code of Federal Regulations as follows:

PART 51—REQUIREMENTS FOR PREPARATION, ADOPTION, AND SUBMITTAL OF IMPLEMENTATION PLANS

1. The authority citation for part 51 continues to read as follows:

Authority: 23 U.S.C. 101; 42 U.S.C. 7401-7671q.

Subpart P—Protection of Visibility

2. Amend § 51.308 by revising paragraph (f) introductory text to read as follows:

§ 51.308 Regional haze program requirements.

* * * * *

(f) Requirements for periodic comprehensive revisions of implementation plans for regional haze. Each State identified in § 51.300(b) must revise and submit its regional haze implementation plan revision to EPA by July 31, 2021, July 31, 2031, July 31, 2038, and every 10 years thereafter. The plan revision due on or before July 31, 2021, must include a commitment by the State to meet the requirements of paragraph (g) of this section. In each plan revision, the State must address regional haze in each mandatory Class I Federal area located within the State and in each mandatory Class I Federal area located outside the State that may be affected by emissions from within the State. To meet the core requirements for regional haze for these areas, the State must submit an implementation plan containing the following plan elements and supporting documentation for all required analyses:

* * * * *

[FR Doc. 2026-00003 Filed 1-5-26; 8:45 am]

BILLING CODE 6560-50-P